DEPARTMENT OF COMMERCE

International Trade Administration

[A-570-832]

Pure Magnesium From the People's Republic of China: Second Extension of Time for the Final Results of the Antidumping Duty Administrative Review

AGENCY: Import Administration, International Trade Administration, Department of Commerce

DATES: Effective Date: November 15, 2011.

FOR FURTHER INFORMATION CONTACT: Eve Wang, AD/CVD Operations, Office 8, Import Administration, International Trade Administration, U.S. Department of Commerce, 14th Street and Constitution Avenue NW., Washington, DC 20230; telephone: (202) 482-6231.

Background

On June 8, 2011, the Department of Commerce (“the Department”) published the preliminary results of this administrative review for the period May 1, 2009, to April 30, 2010. See Pure Magnesium From the People's Republic of China: Preliminary Results of the 2009-2010 Antidumping Duty Administrative Review, 76 FR 33194 (June 8, 2011). On September 16, 2011, the Department extended the deadline to issue the final results.¹ The final results of review are currently due on November 21, 2011.

¹ See Pure Magnesium From the People's Republic of China: Extension of Time for the Final Results of the Antidumping Duty Administrative Review, 76 FR 59111 (September 23, 2011).

Extension of Time Limits for the Final Results of Review

Section 751(a)(3)(A) of the Tariff Act of 1930, as amended (“the Act”), requires the Department to issue final results within 120 days after the date on which the preliminary results are published. However, if it is not practicable to complete the review within this time period, section 751(a)(3)(A) of the Act allows the Department to extend the time period to a maximum of 180 days. The Department determines that completion of the final results of the administrative review by the current deadline is not practicable. After interested parties submitted case and rebuttal briefs, the Department placed new information on the record ² and allowed parties to submit comments thereon,³ and received additional comments and information. The Department requires additional time to consider this information and argument.

² See the Department's Memorandum to the File, “The 2006-2007 Financial Statements for Madras Aluminum Company (“MALCO”) and Infobanc Truck Freight Rate Data,” dated October 4, 2011.

³ See the Department's Memorandum to the File, “Soliciting Comments on the 2006-2007 Financial Statements for Madras Aluminum Company (“MALCO”) and Infobanc Truck Freight Rate Data” dated November 1, 2011.

Because it is not practicable to complete this review within the time specified under the Act, we are again extending the time period for issuing the final results of the administrative review by additional 15 days, or until December 5, 2011, in accordance with section 751(a)(3)(A) of the Act.

We are publishing this notice pursuant to sections 751(a) and 777(i) of the Act.

Dated: November 7, 2011.
Christian Marsh,
Deputy Assistant Secretary for Antidumping and Countervailing Duty Operations.

[FR Doc. 2011-29499 Filed 11-14-11; 8:45 am]

BILLING CODE 3510-DS-P